COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a meeting on Wednesday, October 10, 2018 12:30 p.m. EST to discuss hearing preparations on legal financial obligations and civil rights issues.

DATES: The meeting will be held on Wednesday October 10, 2018 12:30 p.m. EST. Public Call Information: The meeting will be by teleconference. Toll-free call-in number: 877-260-1479, conference ID: 2206695.

FOR ADDITIONAL INFORMATION CONTACT: Jeff Hinton, DFO, at jhinton@usccr.gov.

SUPPLEMENTARY INFORMATION: Members of the public can listen to the discussion. This meeting is available to the public through the following toll-free call-in number: 877-260-1479, conference ID: 2206695. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Written comments may be mailed to the Regional Program Unit Office, U.S. Commission on Civil Rights, 230 S. Dearborn, Suite 2120, Chicago, IL 60604. They may also be faxed to the Commission at (312) 353-8324 or may be emailed to the Regional Director, Jeff Hinton at jhinton@usccr.gov. Records of the meeting will be available via www.facadatabase.gov under the Commission on Civil Rights, Tennessee Advisory Committee link. Persons interested in the work of this Committee are directed to the Commission's website, http://www.usccr.gov, or may contact the Southern Regional Office at the above email or street address.

Agenda

Welcome and Call to Order

Diane DiIanni, Tennessee SAC Chairman

Jeff Hinton, Regional Director

Regional Update- Jeff Hinton

New Business: Diane DiIanni, Tennessee SAC Chairman/Staff/Advisory Committee

Public Participation

Adjournment

Dated: September 12, 2018.
David Mussatt,
Supervisory Chief, Regional Programs Unit.

[FR Doc. 2018-20115 Filed 9-14-18; 8:45 am]

BILLING CODE P